DEPARTMENT OF TRANSPORTATION

Federal Aviation Administration

14 CFR Part 91

[Docket No. FAA-2008-0937; Amendment No. 91-308]

RIN 2120-AJ37

Drug and Alcohol Testing Program; Technical Amendment

AGENCY: Federal Aviation Administration, DOT.

ACTION: Final rule; technical amendment.

SUMMARY: The Federal Aviation Administration (FAA) is making minor technical changes to a final rule published in the Federal Register on May 14, 2009. That final rule amended the FAA's drug and alcohol regulations to place them in a new part. In that final rule the FAA inadvertently did not include an instruction to amend a cross-reference to two appendices.

DATES: Effective Dates: Effective on July 13, 2009.

FOR FURTHER INFORMATION CONTACT: Rafael Ramos, Office of Aerospace Medicine, Drug Abatement Division, AAM-800, Federal Aviation Administration, 800 Independence Avenue, SW., Washington, DC 20591; telephone (202) 267-8442; facsimile (202) 267-5200; e-mail drugabatement@faa.gov.

SUPPLEMENTARY INFORMATION: The Federal Aviation Administration (FAA) published a document in the Federal Register May 14, 2009, in 74 FR 22649 that amended the regulations governing FAA-required drug and alcohol testing requirements. The FAA inadvertently did not include an instruction to revise language in § 91.146 to change the reference to the drug and alcohol testing program regulation title from the old (14 CFR part 121, appendices I and J) to new, 14 CFR part 120. This amendment will not impose any additional restrictions on operators affected by these regulations.

Technical Amendment

The technical amendment will further amend part 91 by updating a cross-reference in § 91.146(b).

List of Subjects in 14 CFR Part 91

Aircraft, Airmen, Aviation safety.

Accordingly, Title 14 of the Code of Federal Regulations (CFR) part 91 is amended as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

2. Section 91.146(b) introductory text is revised to read as follows:

§ 91.146 Passenger-carrying flights for the benefit of a charitable, nonprofit, or community event.

* * * * *

(b) Passenger carrying flights for the benefit of a charitable, nonprofit, or community event identified in paragraph (c) of this section are not subject to the certification requirements of part 119 or the drug and alcohol testing requirements in part 120 of this chapter, provided the following conditions are satisfied and the limitations in paragraphs (c) and (d) are not exceeded:

* * * * *

Issued in Washington, DC, on July 2, 2009.
Pamela Hamilton-Powell,
Director, Office of Rulemaking.

[FR Doc. E9-16059 Filed 7-8-09; 8:45 am]

BILLING CODE 4910-13-P